DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Interagency Electronic Reporting System.

OMB Control Number: 0648-0515.

Form Number(s): None.

Type of Request: Regular submission.

Burden Hours: 19,084.

Number of Respondents: 239.

Average Hours per Response: eLandings registration, 15 minutes; landing reports, 35 minutes; production reports: at sea, 20 minutes; shoreside, 10 minutes.

Needs and Uses: The interagency electronic reporting system (IERS) was implemented for use in the fisheries of the Exclusive Economic Zone (EEZ). National Marine Fisheries Service (NMFS) requires that eLandings, the data entry component of IERS, be used as a single reporting system for commercial harvest and production of groundfish (including rockfish), Pacific halibut, and certain species of crab. eLandings allows processors and others to make all three required landings reports with a single reporting system to NMFS, the International Pacific Halibut Commission (IPHC), and Alaska Department of Fish and Game (ADF&G). NMFS collects groundfish harvest and production data for Fishery Management Plan (FMP) species in the EEZ (FMPs are prepared and amended as authorized by the Magnuson-Stevens Fishery Conservation and Management Act). ADF&G collects harvest data for groundfish species taken in the State of Alaska (State) waters, and has responsibility for some fisheries in the EEZ, such as lingcod and black rockfish. ADF&G and NMFS cooperatively manage the Crab Rationalization Program fisheries. NMFS and IPHC cooperatively manage Individual Fishing Quota (IFQ) Pacific halibut in both State waters and in the EEZ.

Affected Public: Business or other for-profit organizations.

Frequency: Daily and weekly.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 9, 2009.
Gwellnar Banks,
Management Analyst, Office of the Chief Information Officer.

[FR Doc. E9-13806 Filed 6-11-09; 8:45 am]

BILLING CODE 3510-22-P